DEPARTMENT OF COMMERCE

International Trade Administration

[A-557-813]

Polyethylene Retail Carrier Bags From Malaysia: Notice of Correction to Preliminary Results of Antidumping Duty Administrative Review; 2014-2015

AGENCY: Enforcement and Compliance, International Trade Administration, Department of Commerce.

DATES: Effective July 21, 2016.

FOR FURTHER INFORMATION CONTACT: Bryan Hansen or Minoo Hatten, AD/CVD Operations, Office I, Enforcement and Compliance, International Trade Administration, Department of Commerce, 1401 Constitution Avenue NW., Washington, DC 20230; telephone: (202) 482-3683 or (202) 482-1690, respectively.

SUPPLEMENTARY INFORMATION:

On June 21, 2016, the Department of Commerce (the Department) uploaded the unpublished preliminary results notice of the administrative review of the antidumping duty order on polyethylene retail carrier bags (PRCBs) from Malaysia to Enforcement and Compliance's Antidumping and Countervailing Duty Centralized Electronic Service System (ACCESS).¹ On June 24, 2016, the Department published in the Federal Register the preliminary results of the administrative review of the antidumping duty order on PRCBs from Malaysia.² Upon review of the published preliminary results notice, however, we found that it contained an inadvertent error. Accordingly, we are publishing this correction notice. The Preliminary Results contained an inadvertent error related to the signature block. Specifically, the published notice for the Preliminary Results incorrectly indicated that Paul Piquado, Assistant Secretary for Enforcement and Compliance, was the signing authority when, in fact, the Preliminary Results were signed by Ronald K. Lorentzen, Acting Assistant Secretary for Enforcement and Compliance.³ The due dates to file case and rebuttal briefs and request a hearing remain the dates established in the Preliminary Results.

¹ See Bar code 3479952. ACCESS is available to registered users at https://access.trade.gov. The unpublished notice is also available to all parties in the Central Records Unit, room B8024 of the main Department of Commerce building.

² See Polyethylene Retail Carrier Bags From Malaysia: Preliminary Results of Antidumping Duty Administrative Review; 2014-2015, 81 FR 41294 (June 24, 2016) (Preliminary Results).

³ Id., at 41295.

This correction to the Preliminary Results is issued and published in accordance with sections 751(a)(1), 751(a)(2)(A)(i) and (ii), 751(a)(3) of the Tariff Act of 1930, as amended, and 19 CFR 351.213(h) and 351.221(b)(4).

Dated: July 14, 2016.
Paul Piquado,
Assistant Secretary for Enforcement and Compliance.

[FR Doc. 2016-17307 Filed 7-20-16; 8:45 am]

BILLING CODE 3510-DS-P